DEPARTMENT OF HOMELAND SECURITY

Coast Guard

[Docket No. USCG-2022-0047]

Port Access Route Study: Approaches to Maine, New Hampshire, and Massachusetts

AGENCY: Coast Guard, DHS.

ACTION: Notice of study; request for comments.

SUMMARY: The Coast Guard is conducting a Port Access Route Study (PARS) to evaluate the adequacy of existing vessel routing measures and determine whether additional vessel routing measures are necessary for port approaches to Maine, New Hampshire, Massachusetts, and international and domestic transit areas in the First Coast Guard District area of responsibility (AOR). The Approaches to Maine, New Hampshire, and Massachusetts PARS (MNMPARS) will consider whether existing or additional routing measures are necessary to improve navigation safety due to factors such as planned or potential offshore development, current port capabilities and planned improvements, increased vessel traffic, changing vessel traffic patterns, weather conditions, or navigational difficulty. Vessel routing measures, which include traffic separation schemes, two-way routes, recommended tracks, deep-water routes, precautionary areas, and areas to be avoided, are implemented to reduce risk of marine casualties. The recommendations of the study may subsequently be implemented through rulemakings or in accordance with international agreements.

DATES: All comments and related material must be received on or before May 16, 2022. Commenters should be aware that the electronic Federal Docket Management System will not accept comments after midnight, Eastern Daylight Time, on the last day of the comment period.

ADDRESSES: You may submit comments identified by docket number USCG-2022-0047 using the Federal eRulemaking Portal (http://www.regulations.gov). See the “Public Participation and Request for Comments” portion of the SUPPLEMENTARY INFORMATION section for further instructions on submitting comments.

FOR FURTHER INFORMATION CONTACT: If you have questions about this notice of study, call or email LTJG Thomas Davis, First Coast Guard District (dpw), U.S. Coast Guard: telephone (617) 223-8632, email SMB-D1Boston-MNMPARS@uscg.mil.

SUPPLEMENTARY INFORMATION:

I. Table of Abbreviations

ACPARS Atlantic Coast Port Access Route Study

AIS Automatic Identification System

COMDTINST Commandant Instruction

DHS Department of Homeland Security

EEZ Exclusive Economic Zone

MNMPARS Approaches to Maine, New Hampshire, and Massachusetts Port Access Route Study

MTS Marine Transportation System

PARS Port Access Route Study

TSS Traffic Separation Scheme

USCG United States Coast Guard

II. Background and Purpose

A. Requirements for Port Access Route Studies: Under Section 70003 of Title 46 of the United States Code, the Commandant of the U.S. Coast Guard may designate necessary fairways and traffic separation schemes (TSSs) to provide safe access routes for vessels proceeding to and from U.S. ports. The designation of fairways and TSSs recognizes the paramount right of navigation over all other uses in the designated areas.

Before establishing or adjusting fairways or TSSs, the Coast Guard must conduct a PARS, i.e., a study of potential traffic density and the need for safe access routes for vessels. Through the study process, the Coast Guard must coordinate with federal, state, tribal, and foreign state agencies (where appropriate) and consider the views of maritime community representatives, environmental groups, and other stakeholders. The primary purpose of this coordination is, to the extent practicable, to reconcile the need for safe access routes with other reasonable waterway uses such as anchorages, construction, operation of renewable energy facilities, marine sanctuary operations, commercial and recreational activities, and other uses.

In addition to aiding in the establishment of new or adjusting existing fairways or TSSs, this PARS may recommend establishing or amending other vessel routing measures. Examples of other routing measures include two-way routes, recommended tracks, deep-water routes (for the benefit primarily of ships whose ability to maneuver is constrained by their draft), precautionary areas (where ships must navigate with particular caution), and areas to be avoided (for reasons of exceptional danger or especially sensitive ecological environmental factors).

BILLING CODE 9110-04-P

B. Previous Port Access Route Studies within this Study Area: The Coast Guard established the TSS in the approaches to Portland, ME, in 1978. In 2005, the Coast Guard published a notice of study in the Federal Register (70 FR 7067; February 10, 2005) announcing a PARS to Evaluate the Vessel Routing Measures in the Approaches to Portland, ME, and Casco Bay, ME. The PARS was completed in 2006 and concluded that no amendment to the TSS was needed.

The TSS in the approach to Boston, MA was established in 1973 and was amended in 1983, 2007, and 2009. In 2005, the Coast Guard announced in the Federal Register (70 FR 8312; February 18, 2005) a PARS of Potential Vessel Routing Measures to Reduce Vessel Strikes of North Atlantic Right Whales. The completed PARS was published in the Federal Register (71 FR 29876; May 24, 2006) and recommended realigning and amending the location and size of the western portion of the TSS in the approach to Boston, MA. The TSS was revised in 2007 and the new configuration appeared on nautical charts soon thereafter.

BILLING CODE 9110-04-C

In 2016, the Coast Guard published a notice of its Atlantic Coast Port Access Route Study (ACPARS) in the Federal Register (81 FR 13307; March 14, 2016) and announced the study report as final in the Federal Register (82 FR 16510; April 5, 2017). The ACPARS analyzed the Atlantic Coast waters seaward of existing port approaches within the U.S. Exclusive Economic Zone (EEZ). Information provided by stakeholders and Automatic Identification System (AIS) vessel traffic data was used to identify and verify deep draft and coastwise navigation routes typically followed by ships engaged in commerce between international and domestic U.S. ports.

C. Need for a New Port Access Route Study: In 2019, the Coast Guard announced a new study of routes used by ships to access ports on the Atlantic Coast of the United States in the Federal Register (84 FR 9541; March 15, 2019). This study supplemented and built upon the ACPARS by conducting a series of PARSs to examine ports along the Atlantic Coast that are economically significant, that support military or critical national defense operations, and any related international entry and departure transit areas that are integral to the safe, efficient, and unimpeded flow of commerce to/from major international shipping lanes. The MNMPARS will be conducted in support of the ACPARS initiative.

III. Information Requested

The study area encompasses a very large region (20,500 square nautical miles), bounded by the states of Maine, New Hampshire, and Massachusetts, and the Canadian provinces of Nova Scotia and New Brunswick. The purpose of this notice is to announce commencement of this PARS to examine the First Coast Guard District's portion of the Gulf of Maine, the New Hampshire Seacoast, and the Massachusetts Bay, and to solicit public comments. We encourage you to participate in the study process by submitting comments in response to this notice. Comments should address impacts to navigation in the area of study resulting from factors such as offshore development, increased vessel traffic, changing vessel traffic patterns, weather conditions, or navigational difficulty.

IV. Public Participation and Request for Comments

We encourage you to participate in this study by submitting comments and related materials.

A. Submitting Comments: To submit your comment online, go to http://www.regulations.gov, and insert “USCG-2022-0047” in the “search box.” Click “Search”. Then click “Comment.” The “Comment” button can be found on the following pages:

• Docket Details page when a document within the docket is open for comment,

• Document Details page when the document is open for comment, and

• Document Search Tab with all search results open for comment displaying a “Comment” button.

Clicking “Comment” on any of the above pages will display the comment form. You can enter your comment on the form, attach files (maximum of 20 files up to 10MB each), and choose whether to identify yourself as an individual, an organization, or anonymously. Be sure to complete all required fields depending on which identity you have chosen. Once you have completed all required fields and chosen an identity, the “Submit Comment” button is enabled. Upon completion, you will receive a Comment Tracking Number for your comment. For additional step by step instructions, please see the Frequently Asked Questions page on http://www.regulations.gov or by clicking https://www.regulations.gov/faq.

We accept anonymous comments. Comments we post to http://www.regulations.gov will include any personal information you have provided.

We review all comments and materials received during the comment period, but we may choose not to post off-topic, inappropriate, or duplicate comments that we receive.

B. How do I find and browse for posted comments on Regulations.gov. On the previous version of Regulations.gov, users browsed for comments on the Docket Details page. However, since comments are made on individual documents, not dockets, new Regulations.gov organizes comments under their corresponding document. To access comments and documents submitted to this draft version of the study report go to http://www.regulations.gov, and insert “USCG-2022-0047” in the “search box.” Click “Search.” Then scroll down to and click on the “notice” entitled “Port Access Route Study: Notice of availability of draft report and public information session; request for comments.” This will open to the “Document Details” page. Then click on the “Browse Comments” tab. On the comment tab, you can search and filter comments. Note: If no comments have been posted to a document, the “Comments” tab will not appear on the Document Details page.

C. If you need additional help navigating the new Regulations.gov. For additional step by step instructions to submit a comment or to view submitted comments or other documents please see the Frequently Asked Questions (FAQs) at http://www.regulations.gov/faqs or call or email the person in the FOR FURTHER INFORMATION CONTACT section of this document for alternate instructions.

D. Privacy Act: Anyone can search the electronic form of comments received into any of our dockets by the name of the individual submitting the comment (or signing the comment, if submitted on behalf of an association, business, labor union, etc.). You may review a Privacy Act, system of records notice regarding DHS's eRulemaking in the March 11, 2020 issue of the Federal Register (85 FR 14226).

V. MNMPARS: Timeline, Study Area, and Process

The First Coast Guard District will conduct this PARS. The study will commence upon publication of this notice and may take 12 months or more to complete.

The study area will include the Gulf of Maine, the New Hampshire Seacoast, and Massachusetts Bay regions within the First Coast Guard District AOR encompassed by a line connecting the following geographic positions:

• 41°55′ N 70°33′ W

• 42°08′ N 70°15′ W

• 42°08′ N 67°08′17″ W

then proceeding north along the outermost extent of the EEZ and U.S./Canadian border and thence along the coast line back to the origin. This area extends approximately 175 nautical miles seaward and covers approximately 20,500 square nautical miles. An illustration showing the study area is below.

Analyses will be conducted in accordance with COMDTINST 16003.2B, Marine Planning to Operate and Maintain the Marine Transportation System (MTS) and Implement National Policy. Instruction is available at https://media.defense.gov/2019/Jul/10/2002155400/-1/-1/0/CI_16003_2B.PDF.

We will publish the results of the PARS in the Federal Register. It is possible that the study may validate the status quo (no routing measures) and conclude that no changes are necessary. It is also possible that the study may recommend one or more changes to address navigational safety and the efficiency of vessel traffic management. The recommendations may lead to future rulemakings or appropriate international agreements.

VI. Future Actions

In Person Public Meetings: Although the Coast Guard prefers and highly encourages all comments and related material be submitted directly to the electronic docket we do understand the value that in person public meetings will add to the study. Therefore, the Coast Guard intends to hold public meetings at various locations throughout the study area as the 2022 study process continues. For this initial comment period we ask that you make your comments directly to the docket, addressing impacts to navigation in the area of study resulting from factors such as offshore development, increased vessel traffic, changing vessel traffic patterns, weather conditions, or navigational difficulty. We anticipate that these early comments will inform us as to prevalent concerns and how best to use our limited resources when scheduling meeting locations.

Future public meetings will be announced by a notice in the Federal Register.

This notice is published under the authority of 5 U.S.C. 552(a).

Dated: March 22, 2022.
T.G. Allan Jr.,
Rear Admiral, U.S. Coast Guard, Commander, First Coast Guard District.

[FR Doc. 2022-06818 Filed 3-30-22; 8:45 am]

BILLING CODE 9110-04-P